DEPARTMENT OF ENERGY

Federal Energy Regulatory Commission

[Docket No. RP05-88-000]

Iroquois Gas Transmission System, L.P.; Notice of Proposed Change To FERC Gas Tariff

November 30, 2004.

Take notice that on November 23, 2004, Iroquois Gas Transmission System, L.P. (Iroquois) tendered for filing the following revised sheets to its FERC Gas Tariff, First Revised Volume No. 1, to be effective on December 23, 2004:

First Revised Sheet No. 0

First Revised Sheet No. 2

First Revised Sheet No. 10A

First Revised Sheet No. 33A

Sixth Revised Sheet No. 51

Third Revised Sheet No. 61

Fourth Revised Sheet No. 63

First Revised Sheet No. 65B

Third Revised Sheet No. 141

Fourth Revised Sheet No. 145

Third Revised Sheet No. 149

Fifth Revised Sheet No. 153

Second Revised Sheet No. 156

Fourth Revised Sheet No. 159

Fifth Revised Sheet No. 164

Fourth Revised Sheet No. 171

Fourth Revised Sheet No. 172

Third Revised Sheet No. 175

Sixth Revised Sheet No. 181

Seventh Revised Sheet No. 185

Third Revised Sheet No. 190

Second Revised Sheet No. 191

Third Revised Sheet No. 192

Second Revised Sheet No. 193

Iroquois states that on a periodic basis it reviews the provisions in its tariff for consistency and sentence syntax. Iroquois explains that during a recent review, it identified grammatical and non substantive corrective changes or “housekeeping” issues. Iroquois asserts that the majority of these changes reflect recent internal staff restructuring.

Iroquois states that copies of its filing were served on all jurisdictional customers and interested state regulatory agencies and all parties to the proceeding.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3491 Filed 12-6-04; 8:45 am]

BILLING CODE 6717-01-P